FEDERAL COMMUNICATIONS COMMISSION

[WT Docket No. 08-7; DA 08-282]

Extension of Time To File Comments on Petition for Declaratory Ruling That Text Messages and Short Codes are Title II Services or Are Title I Services Subject to Section 202 Non-Discrimination Rules

AGENCY: Federal Communications Commission.

ACTION: Notice.

SUMMARY: This document extends the time period for filing comments on a petition for declaratory ruling (Petition) filed by Public Knowledge, Free Press, Consumer Federation of America, Consumers Union, EDUCAUSE, Media Access Project, New America Foundation, and U.S. PIRG (Petitioners). The Petitioners ask the Federal Communications Commission (Commission) to clarify the regulatory status of text messaging services, including short-code based services sent from and received by mobile phones, and declare that these services are governed by the anti-discrimination provisions of Title II of the Communications Act.

DATES: Interested parties may file comments on or before March 14, 2008, and reply comments on or before April 14, 2008.

ADDRESSES: You may submit comments, identified by WT Docket No. 08-7, by any of the following methods:

• Federal eRulemaking Portal: http://www.regulations.gov. Follow the instructions for submitting comments.

• Federal Communications Commission's Web Site: http://www.fcc.gov/cgb/ecfs/. Follow the instructions for submitting comments.

• Mail: Filings can be sent by hand or messenger delivery, by commercial overnight courier, or by first-class or overnight U.S. Postal Service mail (although we continue to experience delays in receiving U.S. Postal Service mail). All filings must be addressed to the Commission's Secretary, Office of the Secretary, Federal Communications Commission.

• People with Disabilities: Contact the FCC to request reasonable accommodations (accessible format documents, sign language interpreters, CART, etc.) by e-mail: FCC504@fcc.gov or phone: 202-418-0530 or TTY: 202-418-0432.

For detailed instructions for submitting comments and additional information on the rulemaking process, see the SUPPLEMENTARY INFORMATION section of this document.

FOR FURTHER INFORMATION CONTACT: Jennifer Salhus, Spectrum and Competition Policy Division, Wireless Telecommunications Bureau, 202-418-1310.

SUPPLEMENTARY INFORMATION: This is a summary of an Order released on February 1, 2008. The full text of the Order is available for public inspection and copying during normal business hours in the FCC Reference Center, Room CY-A257, 445 12th St., SW., Washington, DC 20554. The complete text may also be purchased from the Commission's duplicating contractor, Qualex International, Portals II, 445 12th St., SW., Room CY-B402, Washington, DC, telephone (202) 863-2893, facsimile (202) 863-2898, or via e-mail qualexint@aol.com. Additionally, the complete item is available on the Federal Communications Commission's Web site at http://www.fcc.gov.

On December 11, 2007, Petitioners filed a joint petition for declaratory ruling, asking the Commission to clarify the regulatory status of text messaging services, including short-code-based services sent from and received by mobile phones, and declare that these services are governed by the anti-discrimination provisions of Title II of the Communications Act. On January 14, 2008, the Commission established a pleading cycle for the Petition, with comments due on February 13, 2008 and replies due on March 14, 2008, 73 FR 4866.

On January 25, 2008, CTIA-The Wireless Association (CTIA) filed a motion for an extension of time to file comments and replies. CTIA requested a 30-day extension of the deadline for filing comments and a corresponding 30-day extension of the deadline to file reply comments. CTIA stated that “additional time is necessary for parties to consider the important issues raised by the Petition and to fully prepare submissions enabling the Commission to make an informed decision based on a fully developed record.”

On February 1, 2008, the Wireless Bureau issued an Order granting CTIA's motion for an extension of time to file comments and replies based on its finding that additional time would be beneficial to the development of a complete record on the issues. As a result of the Order, comments on the petition are due by March 14, 2008, and reply comments are due by April 14, 2008.

Pursuant to sections 1.415 and 1.419 of the Commission's rules, 47 CFR 1.415, 1.419, interested parties may file comments and reply comments on or before the dates indicated on the first page of this document. Comments may be filed using: (1) The Commission's Electronic Comment Filing System (ECFS), (2) the Federal Government's eRulemaking Portal, or (3) by filing paper copies. See Electronic Filing of Documents in Rulemaking Proceedings, 63 FR 24121 (1998).

• Electronic Filers: Comments may be filed electronically using the Internet by accessing the ECFS: http://www.fcc.gov/cgb/ecfs/ or the Federal eRulemaking Portal: http://www.regulations.gov. Filers should follow the instructions provided on the Web site for submitting comments.

• For ECFS filers, if multiple docket or rulemaking numbers appear in the caption of this proceeding, filers must transmit one electronic copy of the comments for each docket or rulemaking number referenced in the caption. In completing the transmittal screen, filers should include their full name, U.S. Postal Service mailing address, and the applicable docket or rulemaking number. Parties may also submit an electronic comment by Internet e-mail. To get filing instructions, filers should send an e-mail to ecfs@fcc.gov, and include the following words in the body of the message, “get form.” A sample form and directions will be sent in response.

• Paper Filers: Parties who choose to file by paper must file an original and four copies of each filing. If more than one docket or rulemaking number appears in the caption of this proceeding, filers must submit two additional copies for each additional docket or rulemaking number.

Filings can be sent by hand or messenger delivery, by commercial overnight courier, or by first-class or overnight U.S. Postal Service mail (although we continue to experience delays in receiving U.S. Postal Service mail). All filings must be addressed to the Commission's Secretary, Office of the Secretary, Federal Communications Commission.

• The Commission's contractor will receive hand-delivered or messenger-delivered paper filings for the Commission's Secretary at 236 Massachusetts Avenue, NE., Suite 110, Washington, DC 20002. The filing hours at this location are 8 a.m. to 7 p.m. All hand deliveries must be held together with rubber bands or fasteners. Any envelopes must be disposed of before entering the building.

• Commercial overnight mail (other than U.S. Postal Service Express Mail and Priority Mail) must be sent to 9300 East Hampton Drive, Capitol Heights, MD 20743.

• U.S. Postal Service first-class, Express, and Priority mail must be addressed to 445 12th Street, SW., Washington, DC 20554.

People with Disabilities: To request materials in accessible formats for people with disabilities (braille, large print, electronic files, audio format), send an e-mail to fcc504@fcc.gov or call the Consumer & Governmental Affairs Bureau at 202-418-0530 (voice), 202-418-0432 (tty).

Federal Communications Commission.
Fred B. Campbell, Jr.,
Chief, Wireless Telecommunications Bureau.

[FR Doc. E8-3595 Filed 2-27-08; 8:45 am]

BILLING CODE 6712-01-P